DEPARTMENT OF COMMERCE

International Trade Administration

Announcement of Approved International Trade Administration Trade Mission

AGENCY: International Trade Administration, Department of Commerce.

SUMMARY: The United States Department of Commerce, International Trade Administration (ITA), is announcing one upcoming trade mission that will be recruited, organized, and implemented by ITA. This mission is: Design and Construction Business Development Mission to Hong Kong, Taipei, and Ho Chi Minh City—October 28—November 1, 2024.

A summary of the mission is found below. Application information and more detailed mission information, including the commercial setting and sector information, can be found at the trade mission website: https://www.trade.gov/trade-missions. For this mission, recruitment will be conducted in an open and public manner, including publication in the Federal Register, posting on the Commerce Department trade mission calendar (https://www.trade.gov/trade-missions-schedule) and other internet websites, press releases to general and trade media, direct mail, broadcast fax, notices by industry trade associations and other multiplier groups, and publicity at industry meetings, symposia, conferences, and trade shows.

FOR FURTHER INFORMATION CONTACT: Jeffrey Odum, Trade Events Task Force, International Trade Administration, U.S. Department of Commerce, 1401 Constitution Avenue NW, Washington, DC 20230; telephone (202) 482-6397 or email Jeffrey.Odum@trade.gov.

SUPPLEMENTARY INFORMATION:

The Following Conditions for Participation Will Be Used for the Mission

Applicants must submit a completed and signed mission application and supplemental application materials, including adequate information on their products and/or services, primary market objectives, and goals for participation that is adequate to allow the Department of Commerce to evaluate their application. If the Department of Commerce receives an incomplete application, the Department may either: reject the application, request additional information/clarification, or take the lack of information into account when evaluating the application. If the requisite minimum number of participants is not selected for a particular mission by the recruitment deadline, the mission may be canceled.

Each applicant must also certify that the products and services it seeks to export through the mission are either produced in the United States, or, if not, are marketed under the name of a U.S. firm and have at least fifty-one percent U.S. content by value. In the case of a trade association or organization, the applicant must certify that, for each firm or service provider to be represented by the association/organization, the products and/or services the represented firm or service provider seeks to export are either produced in the United States or, if not, marketed under the name of a U.S. firm and have at least 51% U.S. content by value.

A trade association/organization applicant must certify to the above for all of the companies it seeks to represent on the mission.

In addition, each applicant must:

• Certify that the products and services that it wishes to market through the mission would be in compliance with U.S. export controls and regulations;

• Certify that it has identified any matter pending before any bureau or office in the Department of Commerce;

• Certify that it has identified any pending litigation (including any administrative proceedings) to which it is a party that involves the Department of Commerce; and

• Sign and submit an agreement that it and its affiliates (1) have not and will not engage in the bribery of foreign officials in connection with a company's/participant's involvement in this mission, and (2) maintain and enforce a policy that prohibits the bribery of foreign officials.

In the case of a trade association/organization, the applicant must certify that each firm or service provider to be represented by the association/organization can make the above certifications.

The Following Selection Criteria Will Be Used for the Mission

Targeted mission participants are U.S. firms, services providers, and trade associations/organizations providing or promoting U.S. products and services that have an interest in entering or expanding their business in the mission's destination country. The following criteria will be evaluated in selecting participants:

• Suitability of the applicant's (or in the case of a trade association/organization, represented firm's or service provider's) products or services to these markets;

• The applicant's (or in the case of a trade association/organization, represented firm's or service provider's) potential for business in the markets, including the likelihood of exports resulting from the mission; and

• Consistency of the applicant's (or in the case of a trade association/organization, represented firm's or service provider's) goals and objectives with the stated scope of the mission.

Balance of company size and location may also be considered during the review process. Referrals from a political party or partisan political group or any information, including on the application, containing references to political contributions or other partisan political activities will be excluded from the application and will not be considered during the selection process. The sender will be notified of these exclusions.

Definition of Small- and Medium-Sized Enterprise

For purposes of assessing participation fees, an applicant is a small or medium-sized enterprise (SME) if it qualifies as a “small business” under the Small Business Administration's (SBA) size standards (https://www.sba.gov/document/support--table-size-standards), which vary by North American Industry Classification System (NAICS) Code. The SBA Size Standards Tool (https://www.sba.gov/size-standards) can help you determine the qualifications that apply to your company.

Mission List: (additional information about trade missions can be found at https://www.trade.gov/trade-missions).

Design and Construction Business Development Mission to Hong Kong, Taipei, and Ho Chi Minh City—October 28-November 1, 2024

Summary

The United States Department of Commerce, International Trade Administration (ITA), is organizing a Design & Construction Business Development Mission (D&C BDM) to Hong Kong, Taipei and Ho Chi Minh from October 28 through November 1, 2024. The objective of this mission is to advance U.S. national interests and focus on meeting demand for U.S. design and construction solutions for East and Southeast Asian markets.

The business development mission will bring 10-15 U.S. companies to Hong Kong, Taipei, and Ho Chi Minh City to meet with officials and potential buyers. The business development mission will focus on design and construction industry subsectors including safety; sustainable materials; retrofitting and refurbishment; construction robotics; automation; digitalization; modular integrated construction (MiC); recycling; sustainable design and materials; and environmental and green building technologies. Hong Kong, Taiwan, and Vietnam have commitments to reach carbon neutrality by 2050 and experience shortages of construction workers, causing delays, accidents, and cost inflation.

ITA will organize a tailored program for U.S. companies exploring opportunities in all three markets and will leverage our strong connections with local partners to lead discussions on trade, financing, and technical aspects of doing business in these three Asian markets.

Mission participants will develop business prospects through ITA-hosted networking events, vetted business-to-business matchmaking meetings, roundtable discussions with U.S. and foreign government and industry leaders, product presentations, and site visits.

Mission participants will receive assistance to secure meetings, gain greater exposure to Asian markets, and benefit from the guidance and insights of ITA's commercial teams.

Proposed Timetable
[* Note: The final schedule and potential site visits will depend on the availability of host government and business officials, specific goals of mission participants, and ground transportation.]
Sunday, October 27, 2024; Hong Kong | • Trade Mission Participants Arrive in Hong Kong.
Monday, October 28, 2024; Hong Kong | • U.S. Consulate Market Briefing. • Meetings with the Hong Kong Green Building Council, the Business Environment Council, the Construction Industry Council, the American Institute of Architects, the Urban Land Institute. • Evening Reception.
Tuesday, October 29, 2024; Hong Kong | • One-on-one business matchmaking. • Site visit to a construction project .• Travel to Taipei, Taiwan
Wednesday, October 30, 2024; Taipei | • Country briefing at the American Institute in Taiwan. • Meetings with the National Association of Architects, Architecture Association of the R.O.C., and The American Society of Heating, Refrigerating, and Air-Conditioning Engineers (ASHRAE). • Evening Reception.
Thursday, October 31, 2024; Taipei | • One-on-one business matchmaking. • Site visit to a construction project. • Travel to Ho Chi Minh City, Vietnam.
Friday, November 1, 2024; Ho Chi Minh City | • U.S. Consulate Country Briefing. • Meeting with American Chamber of Commerce, Vietnam Green Building Council, Vietnam Association of Construction, Ho Chi Minh Real Estate Association, Saigon Construction and Building Material Association. • One on one business matchmaking. • Evening Networking Reception. • End of Mission.

Participation Requirements

All parties interested in participating in the trade mission must complete and submit an application package for consideration by the Department of Commerce. All applicants will be evaluated on their ability to meet certain conditions and best satisfy the selection criteria as outlined below. A minimum of 10 and a maximum of 15 firms and/or trade associations will be selected to participate in the mission from the applicant pool.

Fees and Expenses

After a firm or trade association has been selected to participate in the mission, a payment to the Department of Commerce in the form of a participation fee is required. The participation fee for the Business Development Mission will be $3,800.00 for small or medium-sized enterprises (SME)1; and $5,500.00 for large firms or trade associations. The fee for each additional firm representative (large firm or SME/trade organization) is $1000.00. Expenses for travel, lodging, meals, and incidentals will be the responsibility of each mission participant. Interpreter and driver services can be arranged for additional cost. Delegation members will be able to take advantage of U.S. Embassy rates for hotel rooms.

If and when an applicant is selected to participate in a particular mission, a payment to the Department of Commerce in the amount of the designated participation fee below is required. Upon notification of acceptance to participate, those selected have 5 business days to submit payment or the acceptance may be revoked.

Participants selected for a trade mission will be expected to pay for the cost of personal expenses, including, but not limited to, international travel, lodging, meals, transportation, communication, and incidentals, unless otherwise noted. Participants will, however, be able to take advantage of U.S. Government rates for hotel rooms. In the event that a mission is canceled, no personal expenses paid in anticipation of a mission will be reimbursed. However, participation fees for a canceled mission will be reimbursed to the extent they have not already been expended in anticipation of the mission.

If a visa is required to travel on a particular mission, applying for and obtaining such a visa will be the responsibility of the mission participant. Government fees and processing expenses to obtain such a visa are not included in the participation fee. However, the Department of Commerce will provide instructions to each participant on the procedures required to obtain business visas.

Trade Mission members participate in trade missions and undertake mission-related travel at their own risk. The nature of the security situation in a given foreign market at a given time cannot be guaranteed. The U.S. Government does not make any representations or guarantees as to the safety or security of participants. The U.S. Department of State issues U.S. Government international travel alerts and warnings for U.S. citizens available at https://travel.state.gov/content/passports/en/alertswarnings.html. Any question regarding insurance coverage must be resolved by the participant and its insurer of choice.

Travel and in-person activities are contingent upon the safety and health conditions in the United States and the mission countries. Should safety or health conditions not be appropriate for travel and/or in-person activities, the Department will consider postponing the event or offering a virtual program in lieu of an in-person agenda. In the event of a postponement, the Department will notify the public, and applicants previously selected to participate in this mission will need to confirm their availability but need not reapply. Should the decision be made to organize a virtual program, the Department will adjust fees, accordingly, prepare an agenda for virtual activities, and notify the previous selected applicants with the option to opt-in to the new virtual program.

Timeframe for Recruitment and Applications

Mission recruitment will be conducted in an open and public manner, including publication in the Federal Register, posting on the Commerce Department trade mission calendar (http://export.gov/ trademissions) and other internet websites, press releases to general and trade media, direct mail, notices by industry trade associations and other multiplier groups, and publicity at industry meetings, symposia, conferences, and trade shows. Recruitment for the mission will begin immediately and conclude no later than July 31, 2024. The U.S. Department of Commerce will review applications and inform applicants of selection decisions on a rolling basis. Applications received after July 31, 2024, will be considered only if space and scheduling constraints permit.

Contacts

Geoffrey Parish, Chief Commercial Officer, U.S. Commercial Service, Hong Kong, Tel: +852 2521 5752, Email: geoffrey.parish@trade.gov

Michael Wajntal, Commercial Specialist, U.S. Commercial Service, Hong Kong, Tel: +852 2521 3721, Email: michael.wajntal@trade.gov

Joyce Tang, Commercial Specialist, U.S. American Institute, Taiwan, Email: joyce.tang@trade.gov

Nga Hoang, Commercial Specialist, U.S. Commercial Service, Vietnam, Email: nga.hoang@trade.gov

Frantz Eyssallenne, Trade Specialist, Dallas, TX, Tel: 469-424-7212, Email: frantz.eyssallenne@trade.gov

Ho Eun Kim, Trade Specialist, Chicago, IL, Tel: 312-353-8040, Email: hoeun.kim@trade.gov.

Gemal Brangman,
Director, ITA Events Management Task Force.

[FR Doc. 2024-13300 Filed 6-14-24; 8:45 am]

BILLING CODE 3510-DR-P